SECURITIES AND EXCHANGE COMMISSION

Issuer Delisting; Notice of Application To Withdraw From Listing and Registration; (Maxim Pharmaceuticals, Inc., Common Stock, $.001 Par Value, and Redeemable Common Stock Purchase Warrants Expiring July 10, 2001) File No. 1-14430

May 2, 2000.

Maxim Pharmaceuticals, Inc. (“Company”) has filed an application with the Securities and Exchange Commission (“Commission”), pursuant to Section 12(d) of the Securities Exchange Act of 1934 (“Act”) ¹ and Rule 12d2-2(d) thereunder,² to withdraw the securities described above (“Securities”) from listing and registration on the American Stock Exchange LLC (“Amex”) and under Section 12(b) of the Act.³

¹ 15 U.S.C. 78l(d).

² 17 CFR 240.12d2-2(d).

³ 15 U.S.C. 78l(b).

The Company, whose business is biotechnology, has undertaken to transfer trading in its Securities from the Amex to the National Market of the Nasdaq Stock Market, Inc. (“Nasdaq”), which it considers to be the preeminent marketplace for the securities of biotechnology companies. The Company has registered its Securities pursuant to Section 12(g) of the Act ⁴ by filing a Registration Statement on Form 8-A with the Commission on April 26, 2000. The Securities subsequently became designated for quotation and began trading on the Nasdaq National Market, and were simultaneously suspended from trading on the Amex, on April 27, 2000. In making the determination to withdraw its Securities from listing and registration on the Amex in conjunction with the commencement of trading on the Nasdaq, the Company hopes to avoid both the costs of maintaining dual listings and potential fragmentation of the market for its Securities.

⁴ 15 U.S.C. 78l(g).

The Company has stated that it has complied with the Rules of the Amex governing the withdrawal of its Securities from listing and registration on the Exchange, and that the Amex in turn has indicated that it will not oppose such withdrawal.

The Company's application relates solely to the withdrawal of the Securities from listing and registration on the Amex and shall have no effect upon the Securities' designation for quotation and trading on the Nasdaq National Market and registration under Section 12(g) of the Act.⁵

⁵ Id.

Any interested person may, on or before May 23, 2000, submit by letter to the Secretary of the Securities and Exchange Commission, 450 Fifth Street, N.W., Washington, D.C. 20549-0609, facts bearing upon whether the application has been made in accordance with the rules of the Amex and what terms, if any, should be imposed by the Commission for the protection of investors. The Commission, based on the information submitted to it, will issue an order granting the application after the date mentioned above, unless the Commission determines to order a hearing on the matter.

For the Commission, by the Division of Market Regulation, pursuant to delegated authority.⁶

⁶ 17 CFR 200.30-3(a)(1).

Jonathan G. Katz,
Secretary.

[FR Doc. 00-11401 Filed 5-5-00; 8:45 am]

BILLING CODE 8010-01-M